FEDERAL MARITIME COMMISSION

Sunshine Act Meeting

Agency Holding The Meeting: Federal Maritime Commission.

TIME AND DATE: July 19, 2017; 10:00 a.m.

PLACE: 800 N. Capitol Street NW., First Floor Hearing Room, Washington, DC.

STATUS: The first portion of the meeting will be held in Open Session; the second portion will be held in Closed Session.

MATTERS TO BE CONSIDERED:

Open Session

1. Controlled Carrier List Update

Closed Session

1. Staff Briefing on the West Coast MTO Discussion Agreement (FMC No. 201143)

2. Staff Briefing on the Transpacific Stabilization Agreement (FMC No. 011223)

CONTACT PERSON FOR MORE INFORMATION: Rachel E. Dickon, Assistant Secretary, (202) 523-5725.

Rachel E. Dickon
Assistant Secretary.

[FR Doc. 2017-14942 Filed 7-12-17; 4:15 pm]

BILLING CODE 6730-01-P